DEPARTMENT OF LABOR

Employment and Training Administration

[TA-W-54,483]

Colortex Corporation, Inc., York, SC; Notice of Termination of Investigation

Pursuant to section 221 of the Trade Act of 1974, an investigation was initiated on March 11, 2004 in response to a worker petition which was filed by a company official on behalf of workers at Colortex Corporation, Inc., York, South Carolina (TA-W-54,483).

The petitioner has requested that the petition be withdrawn. Consequently, further investigation in this case would serve no purpose, and the investigation has been terminated.

Signed in Washington, DC, this 22nd day of March, 2004.
Linda G. Poole,
Certifying Officer, Division of Trade Adjustment Assistance.

[FR Doc. 04-7574 Filed 4-2-04; 8:45 am]

BILLING CODE 4510-30-P